DEPARTMENT OF HEALTH AND HUMAN SERVICES

Administration for Children and Families

Submission for OMB Review; Comment Request

Title: Improper Payments Information Survey for the TANF Program.

OMB No.: New Collection.

Description: This survey for the Temporary Assistance for Needy Families (TANF) program will request that States voluntarily provide information including how they define improper payments in their State, the process used to identify such payments and what actions are taken in the State to reduce or eliminate improper payments. HHS/ACF intends to establish a repository for the State submissions, which will be available to all States for viewing on an HHS/ACF website. This website will provide information that will help States improve their program integrity systems so that improper payments in the TANF program can be reduced.

Respondents: The 50 States of the United States, the District of Columbia, and the Territories of Guam, Puerto Rico and the Virgin Islands

Annual Burden Estimates
Instrument | Number of respondents | Number of responses per respondent | Average burden hours per response | Total burden hours
Improper Payments Information Survey for the TANF Program | 54 | 1 | 24 | 1,296

Estimated Total Annual Burden Hours: 1,296 hours

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: September 16, 2005.
Robert Sargis,
Reports Clearance Officer.

[FR Doc. 05-19011 Filed 9-22-05; 8:45 am]

BILLING CODE 4184-01-M